DEPARTMENT OF ENERGY

Federal Energy Regulatory Commission

[Docket No. PF06-13-000]

Downeast LNG, Inc.; Supplemental Notice of Intent To Prepare an Environmental Impact Statement for the Proposed Downeast LNG Project and Request for Comments on Environmental Issues

September 18, 2006.

The Federal Energy Regulatory Commission (FERC or Commission) and the U.S. Department of Homeland Security, U.S. Coast Guard (Coast Guard) are preparing an environmental impact statement (EIS) that will discuss the environmental impacts of the Downeast Liquefied Natural Gas (LNG) Project proposed by Downeast LNG, Inc. (Downeast). The FERC and the U.S. Coast Guard will be the lead federal agencies in the preparation of the EIS, but will prepare the EIS in coordination with their cooperating agencies: the Environmental Protection Agency, U.S. Army Corps of Engineers, and the National Oceanic and Atmospheric Administration National Marine Fisheries Service. The document will satisfy the requirements of the National Environmental Policy Act.

This notice supplements the Notice of Intent (NOI) to prepare an EIS issued on March 13, 2006. The NOI provided information about the proposed project and the environmental review process and requested comments on the scope of issues to address in the EIS. The comment period for the NOI closed on April 17, 2006.

Since the NOI dated March 13, 2006, the natural gas sendout pipeline routes have been analyzed in greater technical detail by Downeast. Originally, Downeast evaluated three options for the sendout pipeline route. Option 3 has been eliminated from further consideration because of significant residential impacts and the lack of available land area adjacent to roadways. Downeast has identified two additional route options (Route Options 4 and 5). The previous transmittal identified Route Option 1 as the preferred alternative for the pipeline route. Among the route option alternatives now available and evaluated, Option 4 is now the preferred route for the following reasons:

• Shorter pipeline length by 3 miles (28 miles long);

• Follows existing transmission corridors for 57 percent of its length;

• Reduced potential for wetlands impact;

• Reduced number of residences within 50 feet of the construction ROW;

• Reduced acreage of Significant Wildlife Habitat within 250 feet of the construction ROW;

• An inability to receive irrevocable license agreements from the Maine Department of Transportation for use of the existing but inactive railroad and other roadways;

• The potential for re-activation of the railway would require reconstruction of the rail bed and straightening of rail line segments which could require relocation of the proposed gas pipeline; and

• On-going discussions with the staff at the Moosehorn National Wildlife Refuge regarding minimization of pipeline routing through the refuge.

A map depicting the current preferred route and alternative route locations is included in Appendix 1 ¹. We ² are specifically requesting comments on the new preferred Route Option 4. Your input will help identify the issues that need to be evaluated in the EIS. The scoping period for this Notice ends on October 18, 2006.

¹ The appendices referenced in this notice are not being printed in the Federal Register. Copies are available on the Commission's Web site (excluding maps) at the “eLibrary” link or from the Commission's Public Reference Room or call (202) 502-8371. For instructions on connecting to e-Library refer to the end of this notice. Copies of the appendices were sent to all those receiving this notice in the mail.

² “We”, “us”, and “our” refer to the environmental staff of the FERC's Office of Energy Projects.

Public Participation

You can make a difference by providing us with your specific comments or concerns about the planned project. By becoming a commentor, your concerns will be addressed in the EIS and considered by the Commission. Your comments should focus on the potential environmental effects, reasonable alternatives (including alternative pipeline routes), and measures to avoid or lessen environmental impacts. The more specific your comments, the more useful they will be. To ensure that your comments are timely and properly recorded, please follow these instructions:

• Send an original and two copies of your letter to: Magalie R. Salas, Secretary, Federal Energy Regulatory Commission, 888 First St., NE., Room 1A, Washington, DC 20426.

• Label one copy of your comments for the attention of OEP/DG2E/Gas Branch 3.

• Reference Docket No. PF06-13-000 on the original and both copies.

• Mail your comments so that they will be received in Washington, DC on or before October 18, 2006. Appropriate copies will be provided to the Coast Guard.

The Commission strongly encourages electronic filing of any comments in response to this NOI. For information on electronically filing comments, please see the instructions on the Commission's Web site at http://www.ferc.gov under the “e-Filing” link and the link to the User's Guide as well as information in 18 CFR 385.2001(a)(1)(iii). Before you can file comments you will need to create a free account, which can be accomplished on-line.

Becoming an Intervenor

Because the NEPA Pre-Filing Process occurs before an application to begin a proceeding is officially filed, petitions to intervene during this process are premature and will not be accepted by the Commission. When Downeast files its application for authorization to construct the proposed facilities, the Commission will publish notice of the application in the Federal Register and establish a deadline for interested persons to intervene in the proceeding.

To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

All commentors will be retained on our mailing list. If you do not want to send comments at this time but still want to keep informed and receive copies of the Draft and Final EISs, you must return the Information Request (Appendix 2). Also, indicate on the form your preference for receiving a paper version in lieu of an electronic version of the EIS on CD-ROM. If you do not return this form, we will remove your name from our mailing list.

Please note, if you have previously submitted comments or returned an Information Request, you are already on our mailing list and do not need to re-submit comments or an Information Request.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF06-13) in the “Docket Number” field. Be sure you have selected an appropriate date range. For assistance with eLibrary, the eLibrary helpline can be reached at 1-866-208-3676, TTY (202) 502-8659, or by e-mail at FercOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Downeast has established an Internet Web site for this project at http://www.downeastlng.com/index.htm. The Web site includes a project overview, status, potential impacts and mitigation, and answers to frequently asked questions. You can also request additional information by calling Downeast directly at 207-214-5926.

Magalie R. Salas,
Secretary.

[FR Doc. E6-15666 Filed 9-22-06; 8:45 am]

BILLING CODE 6717-01-P